DEPARTMENT OF STATE

[Public Notice: 11191]

Notice of Department of State Sanctions Actions Pursuant to Executive Order 13894 of October 14, 2019, Blocking Property and Suspending Entry of Certain Persons Contributing to the Situation in Syria

SUMMARY: The Secretary of State has imposed sanctions on three individuals and one entity pursuant to E.O. 13894, Blocking Property and Suspending Entry of Certain Persons Contributing to the Situation in Syria.

DATES: The Secretary of State's determination and selection of certain sanctions to be imposed upon the one individual identified in the SUPPLEMENTARY INFORMATION section were effective on July 29, 2020.

FOR FURTHER INFORMATION CONTACT: Taylor Ruggles, Director, Office of Economic Sanctions Policy and Implementation, Bureau of Economic and Business Affairs, Department of State, Washington, DC 20520, tel.: (202) 647 7677, email: RugglesTV@state.gov.

SUPPLEMENTARY INFORMATION: Pursuant to Section 2(a) of E.O. 13894, the Secretary of State, in consultation with the Secretary of the Treasury, the Secretary of Commerce, the Secretary of Homeland Security, and the United States Trade Representative, and with the President of the Export-Import Bank, the Chairman of the Board of Governors of the Federal Reserve System, and other agencies and officials as appropriate, is authorized to impose on a person any of the sanctions described in section 2(c) of E.O. 13894 upon determining that the person met any criteria set forth in section 2(a)(i)(A) or section 2(a)(ii) of E.O. 13894.

The Secretary of State has determined, pursuant to Section 2(a)(i)(A) of E.O. 13894, that the First Division of the Syrian Arab Army and Zuhair Tawfiq al-Assad are responsible for or complicit in, have directly or indirectly engaged in, attempted to engage in, or financed, the obstruction, disruption, or prevention of a ceasefire in northern Syria.

The Secretary of State has determined, pursuant to Section 2(a)(ii) of E.O. 13894, that Karam al-Assad and Hafez al-Assad are adult family members of persons designated under subsection (a)(i) of E.O. 13894.

Pursuant to Sections 2(b) and 2(c) of E.O. 13894, the Secretary of State has selected the following sanctions to be imposed upon the First Division of the Syrian Arab Army, Zuhair Tawfiq al-Assad, Karam al-Assad, and Hafez al-Assad:

• Agencies shall not procure, or enter into a contract for the procurement of, any goods or services from the First Division of the Syrian Arab Army, Zuhair Tawfiq al-Assad, Karam al-Assad, or Hafez al-Assad (Section 2(b)(i) of E.O. 13894);

• prohibit any United States financial institution that is a U.S. person from making loans or providing credits to the First Division of the Syrian Arab Army, Zuhair Tawfiq al-Assad, Karam al-Assad, or Hafez al-Assad totaling more than $10,000,000 in any 12-month period, unless the First Division of the Syrian Arab Army, Zuhair Tawfiq al-Assad, Karam al-Assad, or Hafez al-Assad are engaged in activities to relieve human suffering and the loans or credits are provided for such activities (Section 2(c)(i) of E.O. 13894);

• prohibit any transactions in foreign exchange that are subject to the jurisdiction of the United States and in which the First Division of the Syrian Arab Army, Zuhair Tawfiq al-Assad, Karam al-Assad, or Hafez al-Assad have any interest (Section 2(c)(ii) of E.O. 13894);

• prohibit any transfers of credit or payments between banking institutions or by, through, or to any banking institution, to the extent that such transfers or payments are subject to the jurisdiction of the United States and involve any interest of the First Division of the Syrian Arab Army, Zuhair Tawfiq al-Assad, Karam al-Assad, or Hafez al-Assad (Section 2(c)(iii) of E.O. 13894);

• block all property and interests in property that are in the United States, that hereafter come within the United States, or that are or hereafter come within the possession or control of any United States person of the First Division of the Syrian Arab Army, Zuhair Tawfiq al-Assad, Karam al-Assad, or Hafez al-Assad, and provide that such property and interests in property may not be transferred, paid, exported, withdrawn, or otherwise dealt in (Section 2(c)(iv) of E.O. 13894);

• prohibit any United States person from investing in or purchasing significant amounts of equity or debt instruments of the First Division of the Syrian Arab Army, Zuhair Tawfiq al-Assad, Karam al-Assad, or Hafez al-Assad (Section 2(c)(v) of E.O. 13894);

• restrict or prohibit imports of goods, technology, or services, directly or indirectly, into the United States from the First Division of the Syrian Arab Army, Zuhair Tawfiq al-Assad, Karam al-Assad, or Hafez al-Assad (Section 2(c)(vi) of E.O. 13894).

Manisha Singh,
Assistant Secretary, Bureau of Economic and Business Affairs, Department of State.

[FR Doc. 2020-19234 Filed 8-31-20; 8:45 am]

BILLING CODE 4710-07-P